DEPARTMENT OF LABOR

Employment and Training Administration

[TA-W-58,039, TA-W-58,039A, TA-W-58,039B and TA-W-58,039C]

Liberty Fibers Corporation (Including Employees), a Subsidiary of Silva Holdings, Inc., Lowland, TN, Charlotte, NC, Fort Mill, SC, Long Island, NY; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on October 21, 2005, applicable to workers of Liberty Fibers Corporation, a subsidiary of Silva Holdings, Inc., Lowland, Tennessee. The notice was published in the Federal Register on November 9, 2005 (70 FR 68099).

At the request of a company official and the State agency, the Department reviewed the certification for workers of the subject firm. New information shows that worker separations have occurred involving six employees of the Lowland, Tennessee facility of Liberty Fibers Corporation, a subsidiary of Silva Holdings, Inc. located in Charlotte, North Carolina, Fort Mill, South Carolina and Long Island, New York. Mr. Kermit Noble, Mr. Paul Souza, Mr. Robert Bowman, Mr. Reggie Crowell, Mr. William Martin and Mr. Ronald True provided sales and marketing support function services for the production of rayon staple fiber produced by the subject firm.

Based on these findings, the Department is amending this certification to include employees of the Lowland, Tennessee facility of Liberty Fibers Corporation, a subsidiary of Silva Holdings, Inc. located in Charlotte, North Carolina, Fort Mill, South Carolina, and Long Island, New York.

The intent of the Department's certification is to include all workers of Liberty Fibers Corporation, a subsidiary of Silva Holdings, Inc., Lowland, Tennessee who was adversely affected by increased customer imports.

The amended notice applicable to TA-W-58,039 is hereby issued as follows:

All workers of Liberty Fibers Corporation, a subsidiary of Silva Holdings, Inc., Lowland, Tennessee (TA-W-58,039), and including employees of Liberty Fibers Corporation, a subsidiary of Silva Holdings, Inc., Lowland, Tennessee, located in Charlotte, North Carolina (TA-W-58,039A), Fort Mill, South Carolina (TA-W-58,039B), and Long Island, New York (TA-W-58,039C), who became totally or partially separated from employment on or after September 27, 2004, through October 21, 2007, are eligible to apply for adjustment assistance under section 223 of the Trade Act of 1974, are also eligible to apply for alternative trade adjustment assistance under section 246 of the Trade Act of 1974.

Signed at Washington, DC, this 28th day of February 2006.
Richard Church,
Certifying Officer, Division of Trade Adjustment Assistance.

[FR Doc. E6-4284 Filed 3-23-06; 8:45 am]

BILLING CODE 4510-30-P